DEPARTMENT OF THE INTERIOR

Indian Arts and Crafts Board

Proposed Renewal of Information Collection for Source Directory Publication; Comment Request

Correction

In notice document 05-6157 beginning on page 15869 in the issue of Tuesday, March 29, 2005, make the following correction:

On page 15869, in the first column, in the DATES section, in the second line, “May 3, 2005” should read “May 31, 2005”.

[FR Doc. C5-6157 Filed 4-22-05; 8:45 am]

BILLING CODE 1505-01-D